DEPARTMENT OF HEALTH AND HUMAN SERVICES

Statement of Organization

AGENCY: Office for Civil Rights, Office of the Secretary, HHS.

ACTION: Notice.

SUMMARY: This notice sets forth the Statement of Organization of the Office for Civil Rights (OCR) of the Department of Health and Human Services.

DATES: This reorganization was approved by the Secretary of Health and Human Services on February 10, 2023, and took effect on February 25, 2023.

SUPPLEMENTARY INFORMATION: In accordance with Executive Orders and agency actions related to equity—including E.O. 12862: Transforming Federal Customer Experience and Service Delivery to Rebuild Trust in Government; E.O. 13988: Preventing and Combating Discrimination on the Basis of Gender Identity or Sexual Orientation; E.O. 13985: Advancing Racial Equity and Support for Underserved Communities Through the Federal Government; E.O. 14031: Advancing Equity, Justice, and Opportunity for Asian Americans, Native Hawaiians, and Pacific Islanders; and E.O. 14035: Diversity, Equity, Inclusion, and Accessibility in the Federal Workforce; the OCR Statement, as last amended at 83 FR 2802 (January 19, 2018), is being amended at Chapter AT, Office for Civil Rights (OCR) to reflect the restructuring of OCR as follows:

I. Under Chapter AT, Office for Civil Rights (OCR), in the outline section at the beginning of the Chapter that reads:

“AT.00 Mission

AT.10 Organization

AT.20 Functions”

II. Under Chapter AT, Office for Civil Rights (OCR), delete “Section AT.00 Mission” in its entirety and replace with the following:

“AT.00 Mission

As a law enforcement agency, OCR investigates complaints, conducts compliance reviews, develops policy, promulgates regulations, provides technical assistance, and educates the public about federal laws that prohibit recipients of HHS federal financial assistance from discriminating on the basis of race, color, national origin, disability, age, sex, and religion. It also ensures that the practices of health care providers, health plans, healthcare clearinghouses, and their business associates comply with the Federal privacy, security, and breach notification laws and regulations that OCR enforces through the investigation of complaints and breach reports, compliance reviews, and audits. Through its work, OCR helps to ensure equal and non-discriminatory access to and coverage of health and human services, promotes positive change throughout our nation's social service and health care systems to advance equity and accountability, and provides tools for covered entities and individuals to understand their rights and obligations under the law.

OCR accomplishes this by:

• Enforcing laws, investigating complaints, conducting compliance reviews, promulgating regulations, developing policy, providing technical assistance, and engaging in public education and outreach to ensure understanding of and compliance with all the laws OCR has authority over;

• Ensuring that recipients of HHS federal financial assistance comply with federal civil rights laws that prohibit discrimination on the bases of race, color, national origin, disability, age, sex, and religion; and

• Ensuring the practices of health care providers, health plans, health care clearinghouses, and their business associates adhere to federal privacy, security, and breach notification regulations under the Health Insurance Portability and Accountability Act (HIPAA) through the investigation of complaints, self-reports of breaches, compliance reviews, and audits.”

III. Under Chapter AT, Office for Civil Rights (OCR), delete “Section AT.10 Organization” in its entirety and replace with:

“AT.10 Organization

A. Office of the Director (AT)

B. Operations and Resources Division (ATA)

C. Policy Division (ATB)

D. Health Information Privacy, Data, and Cybersecurity Division (ATC)

E. Enforcement Division (ATD)

F. Strategic Planning Division (ATE)

IV. Under Chapter AT, Office for Civil Rights (OCR), Section “AT.20 Functions” delete subsection “A. Office of the Director (AT)” in its entirety and replace with the following:

“A. Office of the Director (AT). The Director is the Department's chief officer and adviser to the Secretary concerning implementation of, compliance with, and enforcement of civil rights and conscience protection laws applicable to HHS-funded or conducted programs or activities, and privacy, security, and breach notification rules under HIPAA. The Director provides leadership, priorities, guidance, and supervision to OCR and is responsible for its overall policy, programs, and operations. The Director is also responsible for representing the Secretary and the Department, in coordination and consultation with the Assistant Secretary for Legislation, before Congress and the Executive Office of the President on matters relating to civil rights, the exercise of conscience, and health information privacy and for liaising with other federal departments and agencies responsible for similar or related matters.”

V. Under Chapter AT, Office for Civil Rights (OCR), Section “AT.20 Functions” at subsection “B. Operations and Resources Division (ATA)” delete “Advising on all regional operations and the Centralized Case Management Operation (CCMO);” after “Responsibilities of the Deputy Director for Operations and Resources include:” and delete “Regional offices are led by Regional Managers who report to the Deputy Director for ORD and are responsible for civil rights, conscience and religious freedom, and HIPAA complaint investigations, enforcement, and outreach. ORD is responsible for responding to stakeholder calls and triaging civil rights, conscience and religious freedom, and HIPAA complaints at intake” after “property management, accountability, and performance metrics.”

VI. Under Chapter AT, Office for Civil Rights (OCR), Section “AT.20 Functions” at subsection “C. Civil Rights Division (ATB),” delete “Civil Rights” and replace with “Policy” and add “(including sexual orientation, gender identity, and pregnancy)” after “sex” and add “religion” after “disability” and delete “enforces” and add “oversees” and add “protection” after “conscience” and delete “provides national leadership in OCR's enforcement and compliance activities, including advising OCR staff nationwide on case development and quality and assisting in developing negotiation, enforcement, and litigation strategies;” and delete “The Civil Rights Division also leads national civil rights compliance reviews;” and replace with “The Policy Division also consults and coordinates with the Enforcement Division on national civil rights and conscience protection laws enforcement and compliance activities;” and add “and conscience protection” after “designs civil rights” and add “and conscience protection” after “regional civil rights” and add “and conscience protection” after “provides civil rights”

VII. Under Chapter AT, Office for Civil Rights (OCR), Section “AT.20 Functions” at subsection “D. Health Information Privacy Division (ATC), delete “Health Information Privacy” and replace with “Health Information Privacy, Data, and Cybersecurity”.

VIII. Under Chapter AT, Office for Civil Rights (OCR), Section “AT.20 Functions” delete subsection E in its entirety and replace with the following:

AT.20 Functions

“E. Enforcement Division (ATD). The Enforcement Division is headed by the Deputy Director of Enforcement, who reports to the Director. The Enforcement Division is responsible for overseeing OCR's regional operations and case management to support comprehensive implementation all of its authorities. Responsibilities of the Deputy Director of Enforcement include: Advising on all regional operations and the Centralized Case Management Operation (CCMO); developing and conducting public education activities in coordination and collaboration with the Strategic Planning Division to drive compliance with the law,; directing case management on data analytics and operations; and coordinating and implementing leadership and professional development training for staff within the Enforcement Division. Regional offices are led by Regional Managers who report to the Deputy Director of Enforcement and are responsible for civil rights, conscience protection, and HIPAA complaint investigations, enforcement, and outreach. The Enforcement Division is responsible for responding to stakeholder calls and triaging civil rights, conscience protection, and HIPAA complaints at intake and throughout the investigation or compliance process.”

VIII. Under Chapter AT, Office for Civil Rights (OCR), Section “AT.20 Functions” add a new subsection F as follows:

AT.20 Functions

“F. Strategic Planning Division (ATE). The Strategic Planning Division is headed by the Deputy Director for Strategic Planning, who reports to the Director. The Strategic Planning Division oversees OCR's outreach and other activities to provide the public with information about their rights and how OCR protects civil rights, conscience protections, and the privacy of individuals' health information. The division promotes OCR's enforcement activities to ensure covered entities are aware of their obligations under federal law and the consequences of violations of that law. The Division provides other HHS components with technical assistance and training on civil rights, conscience protections, and information privacy laws and works with other Operating and Staff Divisions within HHS to drive compliance with the law. The Division also provides identifies and provides staff with training opportunities that meet workforce development objectives, goals for individual professional growth, and succession planning.”

VIII. Pending further delegations, directives, or orders by the Secretary or the OCR Director, all delegations and redelegations of authority to positions of the affected organizations in effect prior to the date of this notice shall continue in effect in them or their successors, provided they are consistent with this reorganization.

Xavier Becerra,
Secretary, Department of Health and Human Services.

[FR Doc. 2023-03892 Filed 2-27-23; 11:15 am]

BILLING CODE 4153-01-P